FEDERAL COMMUNICATIONS COMMISSION

Notice of Public Information Collection(s) Being Submitted for Review to the Office of Management and Budget

March 21, 2006.

SUMMARY: The Federal Communications Commission, as part of its continuing effort to reduce paperwork burden, invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before May 30, 2006. If you anticipate that you will be submitting PRA comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to PRA@fcc.gov. If you would like to obtain or view a copy of this information collection, you may do so by visiting the FCC PRA Web page at: http://www.fcc.gov/omd/pra.

FOR FURTHER INFORMATION CONTACT: For additional information or copies of the information collection(s), send an e-mail to PRA@fcc.gov or contact Judith B. Herman at 202-418-0214. If you would like to obtain or view a copy of this information collection, you may do so by visiting the FCC PRA Web page at: http://www.fcc.gov/omd/pra.

SUPPLEMENTARY INFORMATION: OMB Control No.: 3060-0710.

Title: Policy and Rules Concerning the Implementation of the Local Competition Provisions in the Telecommunications Act of 1996—CC Docket No. 96-98.

Form No.: N/A.

Type of Review: Extension of a currently approved collection.

Respondents: Business or other for-profit.

Number of Respondents: 12,250 respondents; 1,052,693 responses.

Estimated Time Per Response: .5-720 hours.

Frequency of Response: On occasion reporting requirement, recordkeeping requirement and third party disclosure requirement.

Total Annual Burden: 1,055,150 hours.

Total Annual Cost: $625,000.

Privacy Act Impact Assessment: N/A.

Needs and Uses: This collection will be submitted as an extension (after this 60 day comment period) to OMB in order to obtain the full three year clearance.

The information collected under the Submission of Information Necessary to Reach Agreement; Pole Attachment Modifications; Pole Attachment Access Requests and Denials of Access; and Use of Proxies by State Commissions requirements must be provided to third parties. The information collected under the Dispute Resolution Process for Denials of Access; Notification that a State Commission Has Failed to Act; and Petition for Incumbent LEC Status must be submitted to the FCC. The information collected under the Rural and Small Carriers requirement must be provided to the state commission. The Submission of Agreement to the State Commission requirement; the Burden of Proof regarding Interconnection, and Access to Unbundled Network Elements; Collocation; Measurement of Traffic for Purposes of Determining Whether Transport and Termination Traffic Flows are Symmetrical; Filing Regarding Arbitration; Determination of Interconnection and Unbundled Network Element Prices; Determination of Resale Discount Percentage; Preparation of Forward-Looking Economic Cost Studies to Establish Rates for Transport and Termination for Paging and Radiotelephone Service; Narrowband Personal Communications Services; and Paging Operation in the Private Land Mobile Radio Services; and various cost studies must be provided to third parties, state commissions and/or in some instances, the FCC. All of the requirements are used to ensure that local exchange carriers comply with their obligations under the 1996 Act.

OMB Control Number: 3060-0690.

Title: Section 101.17, Performance Requirements for the 38.6-40.0 GHz Frequency Band.

Form Number: N/A.

Type of Review: Revision of a currently approved collection.

Respondents: Business or other for-profit entities; Not-for-profit institutions; and Federal Government, and State, Local, or Tribal Government.

Number of Respondents: 195.

Estimated Time per Response: 2 hours.

Frequency of Response: Reporting requirement at the end of 10 year license term.

Total Annual Burden: 390 hours.

Total Annual Cost: $52,000.

Privacy Impact Assessment: N/A.

Needs and Uses: The Commission is revising this information collection because we have eliminated FCC Forms 415/415T from this collection because the reporting requirements have been incorporated into FCC Form 601 (OMB Control No. 3060-0798). We are also removing Section 101.103 from this collection because it is approved by OMB under a separate OMB Control Number 3060-1023. The only remaining section in this collection is Section 101.17.

All 38.6-40.0 GHz band licensees must demonstrate substantial service at the time of license renewal. A licensee's substantial service showing should include but not be limited to, the following information for each channel for which they hold a license, in each EA or portion of EA covered by their license, in order to qualify for renewal of that license. The information provided will be judged by the Commission to determine whether the licensee is providing service which rises to the level of “substantial”: (1) A description of the 38.6-40.0 GHz band licensee's current service in terms of geographic coverage; (2) a description of the 38.6-40.0 GHz band licensee's current service in terms of population served, as well as any additional service provided during the license term; and (3) a description of the 38.6-40.0 GHz band licensee's investments in its system(s) (type of facilities constructed and their operational status is required).

Any 38.6-40.0 GHz band licensees adjudged not to be providing substantial service will not have the licenses renewed.

Federal Communications Commission.
Marlene H. Dortch,
Secretary.

[FR Doc. 06-2970 Filed 3-28-06; 8:45 am]

BILLING CODE 6712-01-P